DEPARTMENT OF THE INTERIOR

National Park Service

[NPS-WASO-NAGPRA-NPS0027398; PPWOCRADN0-PCU00RP14.R50000]

Notice of Inventory Completion: Sam Noble Oklahoma Museum of Natural History, Norman, OK

AGENCY: National Park Service, Interior.

ACTION: Notice.

SUMMARY: The Sam Noble Oklahoma Museum of Natural History (Museum) at the University of Oklahoma has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Sam Noble Oklahoma Museum of Natural History at the address in this notice by May 1, 2019.

ADDRESSES: Dr. Marc Levine, Assistant Curator of Archaeology, Sam Noble Oklahoma Museum of Natural History, University of Oklahoma, 2401 Chautauqua Avenue, Norman, OK 73072-7029, telephone (405) 325-1994, email mlevine@ou.edu.

SUPPLEMENTARY INFORMATION: Notice is here given in accordance with the Native American Graves Protection and Repatriation Act (NAGPRA), 25 U.S.C. 3003, of the completion of an inventory of human remains and associated funerary objects under the control of the Sam Noble Oklahoma Museum of Natural History, Norman, OK. The human remains and associated funerary objects were removed from the following counties in the State of Oklahoma: Cherokee, Delaware, Haskell, Hughes, Latimer, McClain, Muskogee, Oklahoma, Payne, and Pontotoc.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Sam Noble Oklahoma Museum of Natural History professional staff in consultation with representatives of the Caddo Nation of Oklahoma and the Wichita and Affiliated Tribes (Wichita, Keechi, Waco & Tawakonie), Oklahoma.

History and Description of the Remains

In 1939, human remains representing, at minimum, 21 individuals were removed from the Brackett site (34Ck43), located along the Illinois River in Cherokee County, OK. The excavations were carried out by the Works Progress Administration, and cultural materials were subsequently donated to the Museum on an unknown date.

The human remains include bone fragments and/or teeth of one child, 4-6 years old; one child, 7-9 years old; one adolescent, 12-20 years old of indeterminate sex; one adolescent or young adult of indeterminate sex; one adult, greater than 20 years old, probably a male; one adult, greater than 20 years old of indeterminate sex; one young adult, 20-35 years old of indeterminate sex; one middle-aged adult, 35-50 years old of indeterminate sex; and one older adult, greater than 50 years old of indeterminate sex. The remains also include two commingled sets of remains: One containing an adolescent and one adult male, and the other containing one young adult, 20-35 years old, and one middle-aged adult, 35-50 years old, both of indeterminate sex. No known individuals were identified. The 78 associated funerary objects are one stone double-bit axe, one stone biface, four stone blade fragments, one quartzite core, one stone core fragment, six stone flakes, one chipped-stone hoe, one stone knife, two stone spear points, three stone projectile points, five stone projectile point fragments, two stone scrapers, two stone scraper fragments, one stone ear spool, four stone ear spool fragments, one ground stone hoe fragment, one mano, three mano fragments, one quartz abrader, one hammerstone, one burned rock, five unmodified rocks, two ceramic pipe fragments, two ceramic bottles, one ceramic effigy vessel fragment, six restored ceramic vessels, three unrestored ceramic vessels, 15 sherds, and one shell fragment.

The Brackett site was occupied during the Mississippian Period (A.D. 1000-1500). Diagnostic artifacts, architectural features, and radiocarbon dates indicate that the human remains were probably buried during the Harlan and Norman phases (A.D. 1100-1350).

In 1939-1940, human remains representing, at minimum, eight individuals were removed from the Smullins 1 site (34Ck44), located along the Illinois River in Cherokee County, OK. This site was discovered by the University of Oklahoma while supervising excavations by the Works Progress Administration, and were subsequently donated to the Museum on an unknown date. The human remains include a complete skeleton of one adult female, 35-50 years old; one complete skeleton of an adult male, 20-35 years old; one partial skeleton of an adult male, 25-40 years old; one fragmentary skeleton of an adolescent, 12-14 years old; three partial skeletons of infants, each approximately one year old; and a partial skeleton of a young child, 2-4 years old. No known individuals were identified. The 26 associated funerary objects are four faunal bones, 12 faunal bone fragments, one faunal bone bead, two stone points, three stone scrapers, two stone flakes, one stone blade, and one shell fragment.

Diagnostic artifacts from 34Ck44 demonstrate that the site was occupied intermittently during the Middle to Late Archaic (4000-300 B.C.) and Woodland (300 B.C.-A.D. 1000) Periods, though the burials probably date to the latter period.

In 1939, human remains representing, at minimum, 23 individuals were removed from the Smullins 2 site (34Ck45), located along the Illinois River in Cherokee County, OK. The associated material was collected by the Works Progress Administration, and was later transferred to the Museum on an unknown date. The human remains include complete skeletons of one young adult male, 25-30 years old, and a child, 6-7 years old; partial skeletons of one older adult female greater than 50 years old; a child, 6-7 years old; and an infant less than 6 months old; and fragmentary skeletons of one older adult male, greater than 50 years old; one older adult female greater than 50 years old; one middle-aged adult male, 35-50 years old; one young adult female, 20-25 years old; two additional adults, one probably a male and the other of indeterminate sex; a child, 6-8 years old; and one infant approximately one year old. The human remains also include the commingled remains of one infant less than six months; one infant approximately a year and a half old; one infant, 2-3 years old; two children, 6-8 years old; one child, 7-9 years old; one adolescent, 12-15 years old; two young adults of indeterminate sex, 18-22 years old; and one older adult male greater than 50 years old. No known individuals were identified. The 330 associated funerary objects are three ash samples, three bone awls, 10 bone beads, one polished faunal bone fragment, 180 faunal bone and tooth fragments, two stone axes, one stone biface, one stone biface fragment, 72 stone flakes, two stone knives, three stone knife fragments, 11 stone projectile points, six stone projectile point fragments, two stone scraper fragments, two manos, one hammerstone fragment, five unmodified rocks, two bags of red ochre, three pottery sherds, four modified large bivalve shells, five unmodified large bivalve shells, and 11 shells and shell fragments.

Diagnostic artifacts associated with the Smullins 2 site burials indicate the interments most likely occurred during the Mississippian Period (A.D. 1000-1500).

In 1985-1986, human remains representing, at minimum, 4 individuals were removed from the Bohannon site (34Hu61) in Hughes County, OK. The site was excavated by the Oklahoma Conservation Commission, the associated materials were transferred to the Museum in 2006. The human remains include complete skeletons of two adult males, 30-45 years old and 35-50 years old; a fragmentary skeleton of an adult female; and bone fragments of an adult of indeterminate sex. No known individuals were identified. The 4,528 associated funerary objects are 28 charcoal samples, 2,005 faunal bone fragments, one faunal bone hair pin, four stone bifaces, two stone biface fragments, three stone projectile points, one stone core, 23 chipped stone debris fragments, 1,308 stone flakes, six cobbles, one green paint stone, 174 ground stone fragments, 14 hematite fragments, 498 unmodified pebbles, 78 sandstone fragments, four sandstone spalls, 198 clay fragments, 10 pottery sherds, 84 samples of botanical remains, 19 shell fragments, five turtle shell fragments, and 62 soil samples.

Diagnostic artifacts and radiocarbon dates indicate that 34Hu61 dates to the Washita River phase of the Plains Village Period (A.D. 1100-1450). The human remains and associated material were probably buried at that time as well.

In 1976-1977, human remains representing, at minimum, 44 individuals were removed from the McCutchan-McLaughlin site (34Lt11). The site is located along the Fourche Maline Creek in Latimer County, OK. Excavations at 34Lt11 were carried out by the University of Oklahoma archeological field school and the Oklahoma Anthropological Society, and the associated materials were transferred to the Museum in 1980. The human remains include complete skeletons of four young adult females, 25-35 years old, and three middle-aged adult females, 35-50 years old; partial skeletons of one child, 8-10 years old; one adolescent female, 16-18 years old; one young adult male, 20-35 years old; four middle-aged adult males, 35-50 years old; one middle-aged adult of indeterminate sex, 35-50 years old; and one older adult male, greater than 50 years old; fragmentary skeletons of one child, 3-5 years old; one child, 5-7 years old; one adolescent, 10-15 years old; one adult greater than 20 years old, probably a female; one young adult male, 20-35 years old; one young adult of indeterminate sex, 20-35 years old; one young adult male, 25-35 years old; one middle-aged adult female, 35-50 years old; two older adult males, greater than 40 years old; and one older female, greater than 40 years old; and bone fragments of two fetuses or newborns; one infant, 6 months to one year old; four infants, 1-3 years old; one child 3-4 years old; one adolescent of indeterminate sex, 15-20 years old; three adults of indeterminate sex, greater than 20 years old; one adult male, greater than 20 years old; one young adult female, 20-30 years old; and three middle-aged adult females, 35-50 years old. No known individuals were identified. The 7,890 associated funerary objects are one dog burial, two bone beads, four bone awls, three bone fish hooks, one canine tooth pendant, 3,545 faunal bone fragments, four bifaces, six biface fragments, one cobble fragment, one stone core, 3,549 stone flakes, one stone knife, one stone knife fragment, 37 stone projectile points, 22 stone projectile point fragments, three stone scrapers, one boat stone, three manos, three mano fragments, five hematite stones, one limonite stone, three sandstone fragments, two unmodified rocks, two ceramic sherds, five seed pods, 309 shell beads, 356 shells and shell fragments, one pearl, and 18 charcoal samples.

Diagnostic artifacts and radiocarbon dates demonstrate at least two distinct occupations at 34Lt11, one during the Late Archaic (1500-300 B.C.), and the other during the Woodland Period (300 B.C-A.D. 1000). Most, if not all, of the human remains were probably buried during the Woodland Period occupation.

In 1947, human remains representing, at minimum, 3 individuals were removed from the Allcorn site (34Ml1), located on a bluff overlooking the Canadian River in McClain County, OK. The site was excavated by the University of Oklahoma, and the associated materials were transferred to the Museum in 1981. The human remains include a complete skeleton of a middle-aged adult, 35-50 years old, probably a male; a mandible of an adult, probably a male; and bone fragments of an adult, probably a male. No known individuals were identified. The nine associated funerary objects are two bone awls and seven faunal bone fragments.

Diagnostic artifacts from 34Ml1 indicate that the human remains were probably buried during the Village Farming Period (A.D. 1000-1500) and possibly the succeeding early contact era. Although located in central Oklahoma, analyses of the cultural materials from the site suggest the site was occupied by Arkansas River Basin Caddoan people.

In 1974-1978, human remains representing, at minimum, one individual were removed from the Gann site (34Ms22) in Muskogee County, OK. This site was first recorded by the University of Oklahoma in 1963. The individual was found during a follow up survey conducted by the Oklahoma Archaeological Survey, and the associated materials were turned over to the Museum in 1978. The human remains include bone fragments of an adolescent of indeterminate sex, 16-22 years old. No known individual was identified. No associated funerary objects are present. The Gann site dates to the Mississippian Period (A.D. 1000-1500), and the human remains were probably interred at that time.

In 1969, human remains representing, at minimum, one individual were removed from the Wybark site (34Ms76) in Muskogee County, OK. The site was discovered during road construction, and was excavated by the Oklahoma Archeological Survey. The human remains and associated funerary objects were turned over to the Museum in 1969. The human remains include a partial skeleton of a middle-aged adult male, 35-50 years old. No known individuals were identified. The 781 associated funerary objects are three bison scapula hoes, 32 bison scapula hoe fragments, 445 faunal bone fragments, 38 pottery sherds, 86 stone flakes, one burned corn kernel, one mussel shell, three snail shells, two ground stone fragments, 31 daub fragments, one charcoal sample, 137 sandstone fragments, and one bag of burial matrix. A review of diagnostic artifacts from 34Ms76 indicate that the human remains and associated funerary objects were buried during the Fort Coffee phase of the Mississippian Period (A.D. 1450-1600).

In 1956-1957, human remains representing, at minimum, 20 individuals were removed from the Nagle site (34Ok4), located along the North Canadian River in Oklahoma County, OK. The Ashland Oil Corporation discovered the human remains and associated funerary objects while working on a gas line. The University of Oklahoma conducted salvage excavations and the materials were transferred to the Museum in 1957. The human remains include complete skeletons of one older adult male, greater than 50 years old; one young adult male, 20-25 years old; and one young adult male, 25-30 years old; one partial skeleton of a child, 6-8 years old; and fragmentary skeletons of one young adult male, 25-35 years old; one adolescent female, 17-20 years old; and five infants all less than three years of age. The human remains also include bone fragments of one infant, 1-2 years old; one fetus or newborn; and one adult female; as well as commingled remains of two adults; 1 child, 1-3 years old; two children, 7-10 years old; and one infant less than six months old. No known individuals were identified. The 53 associated funerary objects are three stone flakes, four stone projectile points, one stone scraper, two stone ear spools, one stone abrader, one red paint stone, one unmodified rock, one ceramic jar, one ceramic bowl, 27 shell beads, seven mussel shell fragments, and four faunal bone fragments.

Diagnostic artifacts and radiocarbon dates from site 34Ok4 indicate that the human remains were probably buried circa A.D. 1200. Although located in central Oklahoma, analyses of the cultural material from the site suggest it was occupied by Arkansas River Basin Caddoan people.

In 1934, human remains representing, at minimum, five individuals were excavated by an amateur archaeologist at the Pickett Switch site (34Pn1) in Pontotoc County, OK. The human remains were subsequently transferred to the Museum at an unknown date. The human remains include one fragmentary skeleton of one infant, six months to one year old; and commingled remains of four adults, greater than 20 years old. One of these adults is male, another is probably male, and two are of indeterminate sex. No known individuals were identified. The 262 associated funerary objects are 56 faunal bones fragments, one projectile point, 54 chipped stones, two ground stone celt fragments, 14 daub fragments, 120 pottery sherds, one corn seed fragment, and 14 basketry textile fragments. Diagnostic artifacts and radiocarbon dates suggest that the burials were probably interred around A.D. 1200 or slightly later.

In 1975, human remains representing, at minimum, one individual was removed from the Perkins Burial site (34Py4) in Payne County, OK. Human remains and associated funerary objects were recovered from an eroding stream bank, and were donated to Oklahoma State University. They were later transferred to the Museum in 1977. The human remains include a partial skeleton of one young adult female, 20-35 years old. No known individuals were identified. The five associated funerary objects are two stone flakes, one grinding stone, one pottery sherd, and one shell fragment. Diagnostic artifacts from 34Py4 indicate that the human remains were buried during the Woodland Period (300 B.C.-A.D. 1000) or Plains Village Period (A.D. 900-1500).

All of the human remains detailed in this notice were determined to be Native American based on their archeological context and collection history. Furthermore, all of the human remains and associated funerary offerings were most likely buried during the Woodland Period (300 B.C.-A.D. 1000) or Mississippian Period (A.D. 1000-1500). No lineal descendants associated with the burials have been identified. Diagnostic artifacts (e.g., ceramics, chipped stone, ground stone, bone tools, and ornaments) from these sites are consistent with cultural patterns in the Arkansas River Valley. The archeological data, together with ethnohistoric data, ethnographic data, and tribal oral histories, support the finding that the human remains and associated funerary objects listed herein can be culturally affiliated with both the Caddo Nation of Oklahoma and the Wichita and Affiliated Tribes (Wichita, Keechi, Waco & Tawakonie), Oklahoma.

Determinations Made by the Sam Noble Oklahoma Museum of Natural History

Officials of the Sam Noble Oklahoma Museum of Natural History have determined that:

• Pursuant to 25 U.S.C. 3001(9), the human remains described in this notice represent the physical remains of 131 individuals of Native American ancestry.

• Pursuant to 25 U.S.C. 3001(3)(A), the 13,962 objects described in this notice are reasonably believed to have been placed with or near individual human remains at the time of death or later as part of the death rite or ceremony.

• Pursuant to 25 U.S.C. 3001(2), there is a relationship of shared group identity that can be reasonably traced between the Native American human remains and associated funerary objects and the Caddo Nation of Oklahoma and the Wichita and Affiliated Tribes (Wichita, Keechi, Waco & Tawakonie), Oklahoma.

Additional Requestors and Disposition

Lineal descendants or representatives of any Indian Tribe or Native Hawaiian organization not identified in this notice that wish to request transfer of control of these human remains and associated funerary objects should submit a written request with information in support of the request to Dr. Marc Levine, Assistant Curator of Archaeology, Sam Noble Oklahoma Museum of Natural History, University of Oklahoma, 2401 Chautauqua Avenue, Norman, OK 73072-7029, telephone (405) 325-1994, email mlevine@ou.edu, by May 1, 2019. After that date, if no additional requestors have come forward, transfer of control of the human remains and associated funerary objects to the Caddo Nation of Oklahoma and the Wichita and Affiliated Tribes (Wichita, Keechi, Waco & Tawakonie), Oklahoma may proceed.

The Sam Noble Oklahoma Museum of Natural History is responsible for notifying the Caddo Nation of Oklahoma and the Wichita and Affiliated Tribes (Wichita, Keechi, Waco & Tawakonie), Oklahoma, that this notice has been published.

Dated: February 25, 2019.
Melanie O'Brien,
Manager, National NAGPRA Program.

[FR Doc. 2019-06268 Filed 3-29-19; 8:45 am]

BILLING CODE 4312-52-P